EXPORT-IMPORT BANK

Advisory Committee: Request for Nominations

The Export-Import Bank of the United States (EXIM) is accepting nominations for the EXIM Advisory Committee from July 6, 2020 to July 31, 2020.

The Congressionally-established Advisory Committee meets at least quarterly to advise EXIM concerning its policy and programs, in particular on the extent to which EXIM provides competitive financing to support American jobs through exports.

Candidates wishing to be considered for membership to the Advisory Committee must submit a questionnaire, resume, and letter of support demonstrating why they would be asset to the committee. Letters may be written by candidates themselves or by supportive individuals, and should be submitted on official company or organization letterhead.

Full application requirements and materials will be available beginning July 6, 2020 at: https://www.exim.gov/about/leadership/advisory-committee

All nominations are due by 5:30 p.m. EDT, July 31, 2020.

For additional information please contact the Office of External Engagement at external@exim.gov.

Joyce B. Stone,
Assistant Corporate Secretary.

[FR Doc. 2020-14472 Filed 7-6-20; 8:45 am]

BILLING CODE 6690-01-P